DEPARTMENT OF HOMELAND SECURITY

Coast Guard

46 CFR Parts 114, 116, 118, 122, 175, 177, 181, and 185

[Docket No. USCG-2021-0306]

RIN 1625-AC69

Fire Safety of Small Passenger Vessels; Correction

AGENCY: Coast Guard, DHS.

ACTION: Interim rule; correction.

SUMMARY: The Coast Guard is correcting an interim rule that appeared in the Federal Register on December 27, 2021. The interim rule announced changes to small passenger vessel fire safety regulations. The interim rule has an effective date of March 28, 2022. This correction fixes incorrect cross references in the regulatory text of that interim rule.

DATES: This correction is effective on March 28, 2022.

FOR FURTHER INFORMATION CONTACT: If you have questions on this correction, please contact Lieutenant Carmine Faul, Coast Guard; telephone 202-475-1357, email carmine.a.faul@uscg.mil.

SUPPLEMENTARY INFORMATION:

Correction

In FR Doc. 2021-27549, published at 86 FR 73160 on December 27, 2021, the Coast Guard is correcting incorrect cross references in the regulatory text of § 114.110(g)(1). On page 73171, published in the first column, the interim rule referenced incorrect paragraphs in the second amendatory instruction for § 114.110(g)(1). There, the interim rule incorrectly referenced the requirements in §§ 118.400(c) and 118.500r. We are correcting the interim rule to instead cross reference §§ 118.400(d) and 118.500 in § 114.110(g)(1). The interim rule added new § 118.400(d) which requires certain small passenger vessels to install an interconnected fire detection system. Referencing paragraph (c) of § 118.400 was a typographical error. Additionally, § 118.500r does not exist. The “r” is a typographical error.

In FR Doc. 2021-27549, appearing on page 73171 in the Federal Register of Monday, December 27, 2021, the following correction is made:

§ 114.110 [Corrected]

1. On page 73171, in the first column, in part 114, in amendment 2, in the regulatory text of § 114.110(g)(1), the text “118.400(c) and 118.500r” is corrected to read “118.400(d) and 118.500”.

Dated: January 19, 2022.
M.T. Cunningham,
Chief, Office of Regulations and Administrative Law.

[FR Doc. 2022-01247 Filed 1-21-22; 8:45 am]

BILLING CODE 9110-04-P